OFFICE OF SCIENCE AND TECHNOLOGY POLICY

Microbiome Research

ACTION: Notice of Request for Information

SUMMARY: Advanced sequencing technologies have illuminated vast networks of microorganisms that drive essential functions in all environments on Earth. The study of these communities of microorganisms, or microbiomes, is nascent, and the potential of microbiome research has only begun to be tapped. Primary to achieving this potential is a functional understanding of microbiomes, which would be greatly advanced by addressing fundamental questions common to all fields of microbiome research; developing platform technologies useful to all fields; and identifying gaps in training or fields of research that should be addressed. The Office of Science and Technology Policy (OSTP) is interested in developing an effort to unify and focus microbiome research across sectors. The views of stakeholders—academic and industry researchers, private companies, and charitable foundations—are important to inform an understanding of current and future needs in diverse fields.

DATES: Responses must be received by June 15, 2015, to be considered.

ADDRESSES: You may submit comments by any of the following methods:

• Email: MicrobiomeRFI@ostp.eop.gov. Include [Microbiome RFI] in the subject line of the message.

• Fax: (202) 456-6027, Attn: Elizabeth Stulberg.

• Mail: Attn: Elizabeth Stulberg, Office of Science and Technology Policy, Eisenhower Executive Office Building, 1650 Pennsylvania Ave., NW., Washington, DC 20504.

Instructions: Electronic responses must be provided as attachments to an email. It is recommended that attachments with file sizes exceeding 25MB be compressed (i.e., zipped) to ensure message delivery. Please identify your answers by responding to a specific question or topic if possible. Respondents may answer as many or as few questions as they wish. Comments of up to two pages or fewer (1,000 words) are requested; longer responses will not be considered. Any information obtained as a result of this RFI is intended to be used by the Government on a non-attribution basis for planning and strategy development. OSTP will not respond to individual submissions. A response to this RFI will not be viewed as a binding commitment to develop or pursue the project or ideas discussed. OSTP will not pay for information provided under this RFI. This RFI is not accepting applications for financial assistance or financial incentives. OSTP requests that no proprietary information, copyrighted information, or personally identifiable information be submitted in response to this RFI.

FOR FURTHER INFORMATION CONTACT: Elizabeth Stulberg at MicrobiomeRFI@ostp.eop.gov, (202) 456-4444.

SUPPLEMENTARY INFORMATION: The purpose of this RFI is to solicit feedback from industry, academia, research laboratories, and other stakeholder groups on both the overarching questions that unite all microbiome research and the tools, technologies, and training that are needed to answer these questions. OSTP is specifically interested in information that corresponds to the mission statements of multiple Federal agencies, private sector interests, and current White House Policy Initiatives. In particular, respondents may wish to address the following topics:

• What are the most pressing, fundamental questions in microbiome research, common to most or all fields?

• Over the next ten years, what are the most important research gaps that must be addressed to advance this field?

• What tools, platform technologies, or technological advances would propel microbiome research from correlative to predictive?

• What crucial types of scientific and technical training will be needed to take advantage of harnessing the microbiome's potential?

• What fields of microbiome research are currently underfunded or underrepresented?

• What specific steps could be taken by the federal government, research institutes, universities, and philanthropies to encourage multi-disciplinary microbiome research?

• Is there any additional information, not requested above, that you believe OSTP should consider in identifying crucial areas of microbiome research?

Ted Wackler,
Deputy Chief of Staff and Assistant Director.

[FR Doc. 2015-12191 Filed 5-19-15; 8:45 am]

BILLING CODE 3270-F5-P